DEPARTMENT OF VETERANS AFFAIRS

Joint Biomedical Laboratory Research and Development and Clinical Science Research and Development Services Scientific Merit Review Board [Request for Applications: Clinical Science Research and Development (RFA: “CSR&D) Award for Investigators Associated with the National Center for Post Traumatic Stress Disorder (PTSD)”]; Notice of Meeting

The Department of Veterans Affairs gives notice under Public Law 92-463 (Federal Advisory Committee Act) that a special emphasis review panel of the Joint Biomedical Laboratory Research and Development and Clinical Science Research and Development Services Scientific Merit Review Board [RFA: “CSR&D Award for Investigators Associated with the National Center for Post Traumatic Stress Disorder (PTSD)”] will conduct a telephone conference call on Monday, July 27, 2009, from 11 a.m. to 3 p.m. through the Department of Veterans Affairs, Office of Research and Development, Washington, DC.

The purpose of this special emphasis review panel of the Merit Review Board is to provide advice on the scientific quality, budget, safety and mission relevance of research proposals submitted for VA merit review consideration. Proposals submitted for review by the Board involve a range of specialties and subspecialties related to PTSD, substance use and abuse.

This conference call will be open to the public for approximately one-half hour at the start of the session to discuss the general status of the program. The remaining portion of the conference call will be closed to the public for the review, discussion, and evaluation of non-clinician credentials and research proposals to be performed for the Department of Veterans Affairs, discussion and recommendations will deal with qualifications of personnel conducting the studies, the disclosure of which would constitute a clearly unwarranted invasion of personal privacy, as well as research information, the premature disclosure of which could significantly frustrate implementation of proposed agency action regarding such research proposals.

As provided by subsection 10(d) of Public Law 92-463, as amended, closing portions of a meeting is in accordance with 5 U.S.C., 552b(c)(6) and (c)(9)(B). Individuals wishing to participate in the call or who would like to obtain a copy of the conference call minutes and roster of the members of the review panel should contact LeRoy G. Frey, PhD, Chief, Program Review (121F), Department of Veterans Affairs, 810 Vermont Avenue, NW., Washington, DC 20420 at (202) 461-1664.

Dated: July 6, 2009.
By Direction of the Secretary.
E. Philip Riggin,
Committee Management Officer.

[FR Doc. E9-16342 Filed 7-9-09; 8:45 am]

BILLING CODE 8320-01-P